DEPARTMENT OF ENERGY

Bonneville Power Administration

Temporary Small Resource Policy

AGENCY: Bonneville Power Administration (BPA), Department of Energy (DOE).

ACTION: Notice of availability of Record of Decision (ROD).

SUMMARY: This notice announces the availability of the ROD to establish a Temporary Small Resource Policy (Policy) as an incentive to utility customers to use small resources to serve a portion of their electricity needs, reducing firm load on BPA. This ROD is based on input from the public process and information in the BPA Business Plan Environmental Impact Statement (DOE/EIS-0183, June 1995) and the Business Plan Record of Decision (August 15, 1995).

ADDRESSES: Copies of the Temporary Small Resource Policy ROD, Business Plan, Business Plan EIS, and Business Plan ROD may be obtained by calling BPA's toll-free document request line: 1-800-622-4520.

FOR FURTHER INFORMATION CONTACT: Katherine S. Pierce, KEC-4, Bonneville Power Administration, PO Box 3621, Portland, Oregon, 97208-3621, telephone number 503-230-3962; fax number 503-230-5699; e-mail kspierce@bpa.gov.

SUPPLEMENTARY INFORMATION: The West Coast is in the midst of a power emergency caused by a demand for electricity that is often greater than its supply and record high wholesale market prices. This Policy is a one-time, short-term response to the West Coast power emergency and is one of many measures BPA is undertaking to address power supplies. BPA and the Pacific Northwest are facing severe conditions during the next 12 to 15 months:

• new Subscription contracts have increased customers' load requirements on BPA, so BPA needs to buy more power;

• the Northwest drought means BPA faces low water conditions and has less hydropower, so BPA and its customers must plan to buy even more power; and

• California's market conditions have driven up the purchase price of market power to unprecedented levels.

This Policy would allow the temporary use of short-term resources by BPA customers to help meet their loads and to relieve immediate supply needs. It is intended to be an interim measure that helps bridge the gap until new long-term resources are available. Implementation of this Policy would conform to BPA's market-driven approach for participation in the increasingly competitive electric power market.

Issued in Portland, Oregon, on June 22, 2001.
Stephen J. Wright,
Acting Administrator and Chief Executive Officer.

[FR Doc. 01-17069 Filed 7-6-01; 8:45 am]

BILLING CODE 6450-01-U